DEPARTMENT OF TRANSPORTATION

Federal Aviation Administration

14 CFR Part 39

[Docket No. FAA-2025-3990; Project Identifier MCAI-2025-00097-A]

RIN 2120-AA64

Airworthiness Directives; LAVIA ARGENTINA S.A. Airplanes

AGENCY: Federal Aviation Administration (FAA), DOT.

ACTION: Notice of proposed rulemaking (NPRM).

SUMMARY: The FAA proposes to adopt a new airworthiness directive (AD) for all LAVIA ARGENTINA S.A. (LAVIASA) Model PA-25, PA-25-235, and PA-25-260 airplanes. This proposed AD was prompted by reports of corrosion in the front and rear wing spars and cracks in the front wing spar. This proposed AD would require inspecting the front and rear wing spars for corrosion and crack(s); inspecting the upper/lower spar flange of the front wing spar for any crack(s); repairing or replacing front and rear wing spars if crack(s) or corrosion are found, as applicable. The FAA is proposing this AD to address the unsafe condition on these products.

DATES: The FAA must receive comments on this NPRM by January 2, 2026.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2025-3990; or in person at Docket Operations between 9 a.m. and 5 p.m., Monday through Friday, except Federal holidays. The AD docket contains this NPRM, the mandatory continuing airworthiness information (MCAI), any comments received, and other information. The street address for Docket Operations is listed above.

Material Incorporated by Reference:

• For LAVIASA aviacion material identified in this proposed AD, contact LAVIA ARGENTINA S.A., Parque Industrial Mendoza, Eje Norte, manzana 13 lote 3, Las Heras, Mondoza, Argentina; phone: +54 9 2614 67-7682; email: administracion@laviaargentina.com; website: laviaargentina.com.

• You may view this material at the FAA, Airworthiness Products Section, Operational Safety Branch, 901 Locust, Kansas City, MO 64106. For information on the availability of this material at the FAA, call (817) 222-5110.

FOR FURTHER INFORMATION CONTACT: Aaron Nguyen, Aviation Safety Engineer, FAA, [1600 Stewart Avenue, Suite 410, Westbury, NY 11590]; phone: (281) 799-3453; email: aaron.t.nguyen@faa.gov.

SUPPLEMENTARY INFORMATION:

Comments Invited

The FAA invites you to send any written relevant data, views, or arguments about this proposal. Send your comments using a method listed under ADDRESSES. Include “Docket No. FAA-2025-3990; Project Identifier MCAI-2025-00097-A” at the beginning of your comments. The most helpful comments reference a specific portion of the proposal, explain the reason for any recommended change, and include supporting data. The FAA will consider all comments received by the closing date and may amend this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Aaron Nguyen, Aviation Safety Engineer, FAA, 1600 Stewart Avenue, Suite 410, Westbury, NY 11590. Any commentary that the FAA receives which is not specifically designated as CBI will be placed in the public docket for this rulemaking.

Background

The National Civil Aviation Civil Administration (Argentina), which is the aviation authority for Argentina, has issued Aviación Civil Argentina (ANAC Argentina) AD 2024-05-01, Revision 1, dated December 18, 2024 (ANAC Argentina AD 2024-05-01 R1) (also referred to as the MCAI), to correct an unsafe condition on all LAVIASA Model PA-25, PA-25-235, and PA-25-260 airplanes. The MCAI states that corrosion was reported in the front and rear wing spars and cracks were found in the front wing spar. In addition, the MCAI states that after the issuance of ANAC Argentina Emergency AD 2023-12-01, dated December 11, 2023, cracks were found in holes that were drilled to fix the leading edges, which could propagate towards the spar web.

The MCAI requires doing repetitive inspections of the front and rear wing spars for corrosion and crack(s) and the front wing spar for alteration(s) (change of leading edge, repairs, non-approved perforations) and crack(s); repairing or replacing front and rear wing spars if crack(s), corrosion, or alteration(s) are found.

The unsafe condition, if not addressed, could result in a wing separating from the fuselage in flight.

You may examine the MCAI in the AD docket at regulations.gov under Docket No. FAA-2025-3990.

Material Incorporated by Reference Under 1 CFR Part 51

The FAA reviewed LAVIASA aeroindustria Service Bulletin No. 25-57-09, REV 0, dated November 27, 2023. This material specifies procedures for inspecting the lower wing surface for inspection covers and installing inspection holes and covers as applicable, inspecting the forward and aft wing spars for corrosion and crack(s), and ensuring the drain holes are in the correct position and free from any obstruction(s).

The FAA also reviewed LAVIASA aviacion Service Bulletin No. 25-57-11, Rev 00, dated August 23, 2024. This material specifies procedures for installing rectangular inspection doors near the forward wing spar, verifying the location of the screws on the upper and lower T flanges, inspecting to determine if there are more than four holes between ribs on the leading edge tabs, inspecting for crack(s) near the bore holes, doing a borescope inspection of inside surface of the T-flange for crack(s) and if any crack(s) are found uncovering the complete wing and doing a detailed inspection of the wing spar.

This material is reasonably available because the interested parties have access to it through their normal course of business or by the means identified in the ADDRESSES section.

FAA's Determination

These products have been approved by the civil aviation authority of another country and are approved for operation in the United States. Pursuant to the FAA's bilateral agreement with this State of Design Authority, that authority has notified the FAA of the unsafe condition described in the MCAI referenced above. The FAA is issuing this NPRM after determining that the unsafe condition described previously is likely to exist or develop on other products of the same type design.

Proposed AD Requirements in This NPRM

This proposed AD would require accomplishing the actions in the material already described above, except as discussed under “Differences Between this Proposed AD and the Service Bulletins.”

Differences Between This Proposed AD and the Service Bulletins

Where the service bulletins specify that airplanes will be grounded if any crack(s) are found, this proposed AD would require repair before further flight using instructions obtained from the FAA.

Costs of Compliance

The FAA estimates that this AD, if adopted as proposed, would affect 467 airplanes of U.S. registry.

The FAA estimates the following costs to comply with this proposed AD:

Estimated Costs
Action | Labor cost | Parts cost | Cost per product | Cost on U.S. operators
Inspect wing spars for crack(s) | 16 work-hours × $85 per hour = $1,360, per inspection | $0 | $1,360, per inspection | $635,120, per inspection.
Inspect wing spars for corrosion | 8 work-hours × $85 per hour = $680, per inspection | 0 | $680, per inspection | $317,560, per inspection.

The FAA estimates the following costs to do any necessary replacements that would be required based on the results of the proposed inspections. The agency has no way of determining the number of airplanes that might need these replacements:

On-Condition Costs
Action | Labor cost | Parts cost | Cost per product
Replace front wing spar | 40 work-hours × $85 per hour = $3,400 | $15,000 | $18,400
Replace rear wing spar | 40 work-hours × $85 per hour = $3,400 | 11,000 | 14,400

The repair of any front or rear wing spar that may be required as a result of any proposed inspection could vary significantly from airplane to airplane. The FAA has no data to determine the costs to accomplish the repair or the number of airplanes that may require the repair.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Lavia Argentina S.A: Docket No. FAA-2025-3990; Project Identifier MCAI-2025-00097-A.

(a) Comments Due Date

The FAA must receive comments on this airworthiness directive (AD) by January 2, 2026.

(b) Affected ADs

None.

(c) Applicability

This AD applies to LAVIA ARGENTINA S.A. (LAVIASA) Model PA-25, PA-25-235, and PA-25-260 airplanes, all serial numbers, certificated in any category.

(d) Subject

Joint Aircraft System Component (JASC) Code 5711, WING SPAR.

(e) Unsafe Condition

This AD was prompted by reports of corrosion in the front and rear wing spars and cracks in the front wing spar. The FAA is issuing this AD to address corrosion and crack(s) in the front and rear wing spars, and crack(s) in the front wing spar upper/lower spar flange. The unsafe condition, if not addressed, could result in a wing separating from the fuselage in flight.

(f) Compliance

Comply with this AD within the compliance times specified, unless already done.

(g) Front and Rear Wing Spar Inspections for Corrosion and Crack(s)

(1) At whichever of the compliance times in paragraphs (g)(1)(i) through (iii) of this AD that applies and thereafter at intervals not to exceed 100 hours time-in-service (TIS) or 12 months, whichever occurs first, inspect the lower wing surface for inspection covers and install inspection holes and covers as applicable, inspect the front and rear wing spars for corrosion and crack(s), and ensure the drain holes are in the correct position and free from any obstruction(s), in accordance with steps 5.1, 5.2, and 6. of the ACTIONS in LAVIASA aeroindustria Service Bulletin No. 25-57-09, REV 0, dated November 27, 2023 (LAVIASA SB 25-57-09, REV 0).

Note 1 to paragraph (g)(1): Paragraph 2-14, Inspection Rings and Drain Grommets, of Chapter 2, Fabric Covering, Section 1, Practices and Precautions, of FAA Advisory Circular 43.13-1B, “Acceptable Methods, Techniques, and Practices—Aircraft Inspection and Repair,” Change 1, dated September 8, 1998; with Editorial Update dated September 27, 2001, provides guidance regarding installing inspections rings and drain grommets, as related to step 6., Inspection Holes Installation, of the ACTIONS in LAVIASA SB 25-57-09, REV 0.

(i) For airplanes that have not had a wing spar replaced before the effective date of this AD and not had wing spar alterations at any time during the life of the airplane, before exceeding 5 years on the wing spar, before exceeding 500 hours TIS on the wing spar, or within 10 hours TIS after the effective date of this AD, whichever occurs later;

(ii) For airplanes that have had wing spar alterations at any time during the life of the airplane, within 10 hours TIS after the effective date of this AD; or

(iii) For airplanes that have had the wing spar replaced before the effective date of this AD with no alterations, within 500 hours TIS or 5 years from the date a wing spar was replaced, or within 10 hours TIS after the effective date of this AD, whichever occurs later.

(2) If any crack(s) or corrosion is found during any inspection required by paragraph (g)(1) of this AD, before further flight, repair or replace the affected wing spar in accordance with a method approved by the Manager, International Validation Branch, FAA.

(i) If the wing spar is repaired after the effective date of this AD, repeat the inspection requirements of paragraph (g)(1) of this AD at intervals not to exceed 100 hours TIS or 12 months, whichever occurs first.

(ii) If the wing spar is replaced after the effective date of this AD, inspect the wing spar as required in paragraph (g)(1) of this AD before exceeding 5 years on the wing spar or 500 hours TIS after replacement, whichever occurs first, and thereafter at intervals not to exceed 100 hours TIS or 12 months, whichever occurs first. Repeat the inspection requirements of paragraph (g)(1) of this AD at the applicable time in paragraphs (g)(2)(ii)(A) or (B) of this AD when the airplane is returned to an airworthy condition.

(A) For airplanes that have not had a wing spar replaced before the effective date of this AD and that have not had wing alterations at any time during the life of the airplane, before exceeding 5 years on the wing spar, before exceeding 500 hours TIS on the wing spar, or within 10 hours TIS after the effective date of this AD, whichever occurs later; or

(B) For airplanes that have not had a wing spar replaced before the effective date of this AD and have had wing alterations at any time during the life of the airplane, within 10 hours TIS after the effective date of this AD.

(3) Regardless of whether a crack(s) or corrosion is found during any inspection required by paragraph (g)(1) of this AD that show evidence of overlapping, enlarged holes, or more than four holes found and at least two of them are less than one inch away from each other, perform the wing spar inspection in paragraph (h) or (i) of this AD, as applicable.

(h) Front Wing Spar Upper/Lower Spar Flange Inspection for Crack(s)

(1) At whichever of the compliance times in paragraphs (h)(1)(i) and (ii) of this AD is applicable, inspect the upper/lower spar flange of the front wing spar for any crack(s), evidence of overlapping, enlarged holes, or more than four holes found and at least two of them are less than one inch away from each other, paying particular attention to the leading-edge fitting area, in accordance with steps 1 through 11 of the ACTIONS in LAVIASA aviacion Service Bulletin No. 25-57-11, Rev 00, dated August 23, 2024 (LAVIASA SB 25-57-11, Rev 00).

(i) For airplanes with more than 5 years total time on the front wing spar but less than 40 years total time on the front wing spar, before exceeding 5 years total time on the front wing spar, within 100 hours TIS after the effective date of this AD, or within 12 months after the effective date of this AD, whichever occurs latest; or

(ii) For airplanes with 40 years or more total time on the front wing spar, within 50 hours TIS after the effective date of this AD.

(2) If no crack(s) is found during any inspection required by paragraph (h)(1) of this AD, perform an eddy current inspection of the upper/lower spar flange of the front wing spar for any crack(s) at the applicable times specified in paragraph (h)(2)(i) or (ii) of this AD.

Note 2 to paragraph (h)(2): The eddy current inspection may be done using the instructions in Appendix 1 of Aviación Civil Argentina AD 2024-05-01, Revision 1, dated December 18, 2024 (ANAC Argentina AD 2024-05-01 R1).

(i) For airplanes with more than 5 years total time on the front wing spar but less than 40 years total time on the front wing spar, before further flight; or

(ii) For airplanes with 40 years or more total time on the front wing spar, before further flight and thereafter at intervals not to exceed 100 hours TIS or 12 months, whichever occurs later.

(3) If a wing spar has alterations without discrepancies stated in LAVIASA aviacion SB 25-57-11, Rev 00, during any inspection required by paragraph (h)(1) of this AD, as applicable, perform an eddy current inspection of the upper/lower spar flange of the front wing spar for any crack(s) at the applicable times specified in paragraph (h)(3)(i) or (ii) of this AD.

(i) For airplanes with more than 5 years total time on the front wing spar but less than 40 years total time on the front wing spar, before further flight and thereafter at intervals not to exceed 50 hours TIS except the wing spar must be replaced as specified in paragraph (h)(5) of this AD; or

(ii) For airplanes with 40 years or more total time on the front wing spar, before further flight and thereafter at intervals not to exceed 100 hours TIS or 12 months, whichever occurs later.

(4) If any crack(s) is found during any inspection required by paragraph (h) of this AD, before further flight, repair or replace the affected wing spar in accordance with instructions obtained from the Manager, International Validation Branch, FAA.

(5) Airplanes where eddy current inspections are required every 50 hours TIS as specified in paragraph (h)(3)(i) of this AD must have the wing spar replaced within 18 months after starting the eddy current inspections.

(i) Special Flight Permits

Special flight permits are prohibited.

(j) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k)(1) of this AD and email to: AMOC@faa.gov. Before using any approved AMOC, notify your appropriate principal inspector, or lacking a principal inspector, the manager of the local flight standards district office/certificate holding district office.

(k) Additional Information

(1) For more information about this AD, contact Aaron Nguyen, Aviation Safety Engineer, FAA, [1600 Stewart Avenue, Suite 410, Westbury, NY 11590]; phone: (281) 799-3453; email: aaron.t.nguyen@faa.gov.

(2) FAA Advisory Circular 43.13-1B, “Acceptable Methods, Techniques, and Practices—Aircraft Inspection and Repair,” Change 1, dated September 8, 1998; with Editorial Update dated September 27, 2001, may be found at drs.faa.gov.

(3) For ANAC Argentina AD 2024-05-01 R1, contact Aviación Civil Argentina, Av. Paseo Colon, 1452 CP, Buenes Aires, Argentina; phone: +54 115941 3000/7; website: argentina.gob.ar/anac.

(l) Material Incorporated by Reference

(1) The Director of the Federal Register approved the incorporation by reference (IBR) of the material listed in this paragraph under 5 U.S.C. 552(a) and 1 CFR part 51.

(2) You must use this material as applicable to do the actions required by this AD, unless the AD specifies otherwise.

(i) LAVIASA aeroindustria Service Bulletin No. 25-57-09, REV 0, dated November 27, 2023.

(ii) LAVIASA aviacion Service Bulletin No. 25-57-11, Rev 00, dated August 23, 2024.

(3) For LAVIASA aviacion material identified in this AD, contact LAVIA ARGENTINA S.A., Parque Industrial Mendoza, Eje Norte, Manzana 13 lote 3, Las Heras, Mondoza, Argentina; phone: +54 9 2614 67-7682; email: administracion@laviaargentina.com; website: laviaargentina.com.

(4) You may view this material at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on October 24, 2025.
Steven W. Thompson,
Acting Deputy Director, Compliance & Airworthiness Division, Aircraft Certification Service.

[FR Doc. 2025-20084 Filed 11-17-25; 8:45 am]

BILLING CODE 4910-13-P